SECURITIES AND EXCHANGE COMMISSION

[File No. 1-500]

Wellness Universe, Inc.; Order of Suspension of Trading

February 11, 2000.

It appears to the Securities and Exchange Commission that there is a lack of current and accurate information concerning the securities of Wellness Universe, Inc. (“Wellness” because of questions about the accuracy and adequacy of publicly disseminated information concerning, among other things: the business prospects of Wellness and Synpan Corporation (“Synpan“), a related entity; the employment of Synpan officers; and a purportedly planned initial public offering of Synpan securities.

The Commission is of the opinion that the public interest and the protection of investors require a suspension of trading in the securities of the above listed company.

Therefore, it is ordered, pursuant to section 12(k) of the Securities Exchange Act of 1934, that trading in the above listed company is suspended for the period from 9:30 a.m. EST, on February 11, 2000 through 11:59 p.m. EST, on February 25, 2000.

By the Commission.
Margaret H. McFarland,
Deputy Secretary.

[FR Doc. 00-3656 Filed 2-11-00; 12:09 pm]

BILLING CODE 8010-01-M